ENVIRONMENTAL PROTECTION AGENCY

[FRL-7591-5]

Science Advisory Board Staff Office; Notification of a Workshop on Environmental Protection

AGENCY: Environmental Protection Agency (EPA).

ACTION: Notice.

SUMMARY: The U.S. EPA Science Advisory Board (SAB) Staff Office is announcing a one-day “Science Workshop on Environmental Protection” to be held in Washington, DC. The Workshop will provide the SAB with an overview of selected emerging topics that may be of interest to the EPA. Although the SAB is a Federal Advisory Committee, this workshop is an administrative meeting and, therefore, not subject to the open meeting requirements of the Federal Advisory Committee Act. The Workshop is open to the public, however, seating for the public will be limited and available on a first come basis only to those who pre-register (see Workshop Registration below).

DATES: December 5, 2003: Members of the public wishing to attend must pre-register no later than 12 noon (Eastern Time) on December 5, 2003. Please pre-register via e-mail or fax to Mr. Flaak (see below information). To pre-register, please provide your name, title, organization, mailing address, phone and e-mail. Pre-registration will end when all available public seating is allocated.

December 11, 2003: The workshop will beginning at 8:30 a.m. and adjourning no later than 5:30 p.m. (Eastern Time)

ADDRESSES: Horizon Ballroom, Ronald Reagan Building, 1300 Pennsylvania Avenue, NW., Washington, DC 20004. Please note—the Ronald Reagan Federal Building is a secure facility and a government issued photo ID will be required for entry.

FOR FURTHER INFORMATION CONTACT: Any member of the public wishing further information concerning this workshop should contact Mr. Robert Flaak, EPA Science Advisory Board Staff Office (1400A), U.S. Environmental Protection Agency, 1200 Pennsylvania Avenue, NW., Washington, DC 20460; telephone (202) 564-4546; Fax (202) 501-0582 or 501-0256; or via e-mail at flaak.robert@epa.gov.

SUPPLEMENTARY INFORMATION: The Workshop will consist of five 90-minute presentation and discussion sessions on the following topics: (1) Air Pollution & Control/Transboundary Air Pollutants; (2) Emerging Contaminants (Chemicals and Microbials); (3) Invasive Species; (4) Nanotechnology; and (5) Genomics. Each session will be moderated and have several brief presentations followed by panel discussion.

A draft Workshop agenda is posted on the SAB Web site under “Recent Additions” (http://www.epa.gov/sab/whatsnew.htm). An updated Agenda will be posted prior to the Workshop. Workshop Proceedings will be available at a date to be announced on the SAB Web site.

The SAB was established by 42 U.S.C. 4365 to provide independent scientific and technical advice, consultation, and recommendations to the EPA Administrator on the technical basis for Agency positions and regulations. General information about the EPA Science Advisory Board, may be found on the SAB Web site (http://www.epa.gov/sab).

Meeting Access—Individuals requiring special accommodation at this workshop should contact Mr. Flaak at least five business days in advance so that appropriate arrangements can be made.

Dated: November 20, 2003.
Anthony Maciorowski,
Acting Associate Director, EPA Science Advisory Board Staff Office.

[FR Doc. 03-29430 Filed 11-24-03; 8:45 am]

BILLING CODE 6560-50-P